DEPARTMENT OF THE TREASURY

Internal Revenue Service

Proposed Collection; Comment Request for Preparer Hardship Waiver Request and Preparer Explanation for Not Filing Electronically

AGENCY: Internal Revenue Service (IRS), Treasury.

ACTION: Notice and request for comments.

SUMMARY: The Internal Revenue Service, as part of its continuing effort to reduce paperwork and respondent burden, invites the general public and other Federal agencies to take this opportunity to comment on continuing information collections, as required by the Paperwork Reduction Act of 1995. The IRS is soliciting comments concerning preparer hardship waiver request and preparer explanation for not filing electronically.

DATES: Written comments should be received on or before April 15, 2024 to be assured of consideration.

ADDRESSES: Direct all written comments to Andres Garcia, Internal Revenue Service, Room 6526, 1111 Constitution Avenue NW, Washington, DC 20224, or by email to pra.comments@irs.gov. Include OMB control number 1545-2200 or Preparer Hardship Waiver Request and Preparer Explanation for Not Filing Electronically.

FOR FURTHER INFORMATION CONTACT: Requests for additional information or copies of the forms should be directed to Kerry Dennis at (202) 317-5751, or at Internal Revenue Service, Room 6526, 1111 Constitution Avenue NW, Washington, DC 20224, or through the internet, at Kerry.L.Dennis@irs.gov.

SUPPLEMENTARY INFORMATION:

Title: Preparer Hardship Waiver Request and Preparer Explanation for Not Filing Electronically.

OMB Number: 1545-2200.

Form Number(s): 8944 and 8948.

Abstract: A tax preparer uses Form 8944 to request a waiver from the requirement to file tax returns on magnetic media when the filing of tax returns on magnetic media would cause a hardship. A specified tax return preparer uses Form 8948 to explain which exception applies when a covered return is prepared and filed on paper.

Current Actions: There are no changes being made to the forms or burden at this time.

Type of Review: Extension of a currently approved collection.

Affected Public: Business or other for-profit organizations.

Form 8944

Estimated Number of Respondents: 90,000.

Estimated Number of Responses: 90,000.

Estimated Time per Response: 1 hour.

Estimated Annual Burden Hours: 719,100 hours.

Form 8948

Estimated Number of Respondents: 180,000.

Estimated Number of Responses: 740,500.

Estimated Time per Response: 160 hours.

Estimated Annual Burden Hours: 1,473,595 hours.

Total Burden Estimates

Estimated Total Respondents: 830,500.

Estimated Total Annual Burden Hours: 2,192,695 hours.

The following paragraph applies to all the collections of information covered by this notice.

An agency may not conduct or sponsor, and a person is not required to respond to, a collection of information unless the collection of information displays a valid OMB control number. Books or records relating to a collection of information must be retained if their contents may become material in the administration of any internal revenue law. Generally, tax returns and tax return information are confidential, as required by 26 U.S.C. 6103.

Request for Comments: Comments submitted in response to this notice will be summarized and/or included in the request for OMB approval. All comments will become a matter of public record. Comments are invited on: (a) whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: February 7, 2024.
Kerry L. Dennis,
Tax Analyst.

[FR Doc. 2024-03033 Filed 2-13-24; 8:45 am]

BILLING CODE 4830-01-P